DEPARTMENT OF HEALTH AND HUMAN SERVICES

Centers for Disease Control and Prevention

Disease, Disability, and Injury Prevention and Control Special Emphasis Panel: Occupational Safety and Health Educational Research Centers, Program Announcement PAR 10-217, Initial Review

In accordance with section 10(a)(2) of the Federal Advisory Committee Act (Pub. L. 92-463), the Centers for Disease Control and Prevention (CDC) announces the aforementioned meeting:

Times and Dates:

8:30 a.m.-5 p.m., February 17, 2011 (Closed).

8:30 a.m.-5 p.m., February 18, 2011 (Closed).

Place: San Antonio Marriott Rivercenter, 101 Bowie Street, San Antonio, Texas 78205, Telephone (210) 223-1000.

Status: The meeting will be closed to the public in accordance with provisions set forth in section 552b(c)(4) and (6), Title 5 U.S.C., and the Determination of the Director, Management Analysis and Services Office, CDC, pursuant to Public Law 92-463.

Matters To Be Discussed: The meeting will include the initial review, discussion, and evaluation of “Occupational Safety and Health Educational Research Centers, PAR 10-217.”

There were site visits conducted at the University of Cincinnati, November 21-23, 2010; Mount Sinai School of Medicine, December 5-7, 2010; the University of Texas, Houston, December 15-17, 2010; and the University of South Florida, January 10-12, 2011 to advise and make recommendations to the Disease, Disability, and Injury Prevention and Control SEP: Occupational Safety and Health Educational Research Centers, PAR 10-217.

Contact Person for More Information: M. Chris Langub, PhD, Scientific Review Officer, CDC, 1600 Clifton Road, NE., Mailstop E74, Atlanta, Georgia 30333, Telephone (404) 498-2543.

The Director, Management Analysis and Services Office, has been delegated the authority to sign Federal Register notices pertaining to announcements of meetings and other committee management activities, for both the Centers for Disease Control and Prevention, and the Agency for Toxic Substances and Disease Registry.

Dated: January 19, 2011.
Elaine L. Baker,
Director, Management Analysis and Services Office, Centers for Disease Control and Prevention.

[FR Doc. 2011-1733 Filed 1-26-11; 8:45 am]

BILLING CODE 4163-18-P